DEPARTMENT OF HOMELAND SECURITY

Federal Emergency Management Agency

[Docket ID FEMA-2017-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: November 2, 2017.
Roy E. Wright,
Deputy Associate Administrator for Insurance and Mitigation, Department of Homeland Security, Federal Emergency Management Agency.

State and county | Location and case No. | Chief executive officer of community | Community map repository | Date of modification | Community No.
Alabama:
Etowah (FEMA Docket No.: B-1735) | City of Gadsden (16-04-6644P) | The Honorable Sherman Guyton, Mayor, City of Gadsden, P.O. Box 267, Gadsden, AL 35902 | City Hall, 90 Broad Street, Gadsden, AL 35901 | Oct. 06, 2017 | 010080
Morgan (FEMA Docket No.: B-1735) | City of Hartselle (16-04-8327P) | The Honorable Randy Garrison, Mayor, City of Hartselle, 200 Sparkman Street Northwest, Hartselle, AL 35640 | City Hall, 200 Sparkman Street Northwest, Hartselle, AL 35640 | Sep. 21, 2017 | 010178
Washington (FEMA Docket No.: B-1735) | Unincorporated areas of Washington County (17-04-3238P) | The Honorable Allen Bailey, Chairman, Washington County Board of Commissioners, P.O. Box 146, Chatom, AL 36518 | Engineering Department, 45 Court Street, Chatom, AL 36518 | Sep. 25, 2017 | 010302
Colorado:
Adams (FEMA Docket No.: B-1735) | Unincorporated areas of Adams County (17-08-0045P) | The Honorable Eva J. Henry, Chair, Adams County Board of Commissioners, 4430 South Adams County Parkway, 5th Floor, Suite C5000A, Brighton, CO 80601 | Adams County Community and Economic Development Department, 4430 South Adams County Parkway, 1st Floor, Suite W2000, Brighton, CO 80601 | Sep. 22, 2017 | 080001
Arapahoe (FEMA Docket No.: B-1735) | City of Centennial (17-08-0306P) | The Honorable Cathy Noon, Mayor, City of Centennial, 13133 East Arapahoe Road, Centennial, CO 80112 | Public Works Department, 13133 East Arapahoe Road, Centennial, CO 80112 | Oct. 6, 2017 | 080315
Boulder (FEMA Docket No.: B-1733) | Town of Superior (17-08-0088P) | The Honorable Clint Folsom, Mayor, Town of Superior, 124 East Coal Creek Drive, Superior, CO 80027 | Town Hall, 124 East Coal Creek Drive, Superior, CO 80027 | Sep. 28, 2017 | 080203
Denver (FEMA Docket No.: B-1733) | City and County of Denver (17-08-0542P) | The Honorable Michael Hancock, Mayor, City and County of Denver, 1437 Bannock Street, Room 350, Denver, CO 80202 | Department of Public Works, 201 West Colfax Avenue, Denver, CO 80202 | Sep. 29, 2017 | 080046
Gilpin (FEMA Docket No.: B-1735) | City of Black Hawk (17-08-0165P) | The Honorable David Spellman, Mayor, City of Black Hawk, P.O. Box 17, Black Hawk, CO 80422 | Planning and Development Department, 211 Church Street, Black Hawk, CO 80422 | Oct. 6, 2017 | 080076
Jefferson (FEMA Docket No.: B-1735) | City of Arvada (17-08-0045P) | The Honorable Marc Williams, Mayor, City of Arvada, 8101 Ralston Road, P.O. Box 8101, Arvada, CO 80001 | Engineering Department, 8101 Ralston Road, Arvada, CO 80001 | Sep. 22, 2017 | 085072
Jefferson (FEMA Docket No.: B-1735) | Unincorporated areas of Jefferson County (17-08-0045P) | The Honorable Libby Szabo, Chair, Jefferson County Board of Commissioners, 100 Jefferson County Parkway, Golden, CO 80419 | Jefferson County Planning and Zoning Department, 100 Jefferson County Parkway, Golden, CO 80419 | Sep. 22, 2017 | 080087
Connecticut:
New London (FEMA Docket No.: B-1733) | Town of Groton (17-01-0859P) | Mr. Mark R. Oefinger, Manager, Town of Groton, 45 Fort Hill Road, Groton, CT 06340 | Town Hall, 45 Fort Hill Road, Groton, CT 06340 | Sep. 15, 2017 | 090097
New London (FEMA Docket No.: B-1733) | Town of Ledyard (17-01-0859P) | The Honorable Fred Allyn III, Mayor, Town of Ledyard, 741 Colonel Ledyard Highway, Ledyard, CT 06339 | Town Hall, 741 Colonel Ledyard Highway, Ledyard, CT 06339 | Sep. 15, 2017 | 090157
Florida:
Bay (FEMA Docket No.: B-1735) | Unincorporated areas of Bay County (17-04-2939P) | The Honorable William T. Dozier, Chairman, Bay County Board of Commissioners, 840 West 11th Street, Panama City, FL 32401 | Bay County Planning and Zoning Department, 840 West 11th Street, Panama City, FL 32401 | Sep. 20, 2017 | 120004
Maryland:
Montgomery (FEMA Docket No.: B-1733) | City of Rockville (17-03-0445P) | Mr. Robert DiSpirito, Manager, City of Rockville, 111 Maryland Avenue, Rockville, MD 20850 | Department of Public Works, 111 Maryland Avenue, Rockville, MD 20850 | Sep. 22, 2017 | 240051
Massachusetts:
Worcester (FEMA Docket No.: B-1733) | Town of Northbridge (16-01-2019P) | The Honorable James R. Marzec, Chairman, Town of Northbridge Board of Selectmen, 7 Main Street, Whitinsville, MA 01588 | Town Hall, 7 Main Street, Whitinsville, MA 01588 | Sep. 20, 2017 | 250322
Worcester (FEMA Docket No.: B-1733) | Town of Sutton (16-01-2019P) | The Honorable John L. Hebert, Chairman, Town of Sutton Board of Selectmen, 4 Uxbridge Road, Sutton, MA 01590 | Town Hall, 4 Uxbridge Road, Sutton, MA 01590 | Sep. 20, 2017 | 250338
North Carolina:
Onslow (FEMA Docket No.: B-1733) | Town of North Topsail Beach (17-04-2762P) | The Honorable Fred J. Burns, Mayor, Town of North Topsail Beach, 2008 Loggerhead Court, North Topsail Beach, NC 28460 | Planning Department, 2008 Loggerhead Court, North Topsail Beach, NC 28460 | Oct. 6, 2017 | 370466
Person (FEMA Docket No.: B-1740) | Unincorporated Areas of Person County (17-04-0451P) | The Honorable Tracey L. Kendrick, Chairman, Person County Board of Commissioners, 304 South Morgan Street, Roxboro, NC 27573 | Person County Planning and Zoning Department, 325 South Morgan Street, Roxboro, NC 27573 | Sep. 28, 2017 | 370346
Pitt (FEMA Docket No.: B-1733) | City of Greenville (17-04-3225P) | The Honorable Kandie D. Smith, Mayor, City of Greenville, P.O. Box 7207, Greenville, NC 27835 | City Hall, 200 West 5th Street, Greenville, NC 27834 | Oct. 2, 2017 | 370191
Wake (FEMA Docket No.: B-1733) | Town of Apex (17-04-3427P) | The Honorable Lance Olive, Mayor, Town of Apex, P.O. Box 250, Apex, NC 27502 | Engineering Department, 73 Hunter Street, Apex, NC 27502 | Oct. 2, 2017 | 370467
North Dakota:
Morton (FEMA Docket No.: B-1735) | City of Mandan (17-08-0166P) | The Honorable Tim Helbling, Mayor, City of Mandan, 203 2nd Avenue Northwest, Mandan, ND 58554 | City Hall, 203 2nd Avenue Northwest, Mandan, ND 58554 | Sep. 18, 2017 | 380072
Oklahoma:
Oklahoma (FEMA Docket No.: B-1735) | City of Midwest City (17-06-0756P) | The Honorable Matthew Dukes, Mayor, City of Midwest City, 100 North Midwest Boulevard, Midwest City, OK 73110 | Engineering Department, 100 North Midwest Boulevard, Midwest City, OK 73110 | Oct. 16, 2017 | 400405
Tulsa (FEMA Docket No.: B-1727) | City of Tulsa (17-06-0933P) | The Honorable G.T. Bynum, Mayor, City of Tulsa, 175 East 2nd Street, Tulsa, OK 74103 | Engineering Services Department, 2317 South Jackson Avenue, Tulsa, OK 74107 | Sep. 11, 2017 | 405381
Pennsylvania:
Allegheny (FEMA Docket No.: B-1735) | Township of North Fayette (16-03-2516P) | The Honorable James Morosetti, Chairman, Township of North Fayette Board of Supervisors, 400 North Branch Road, Oakdale, PA 15071 | Community Development Department, 400 North Branch Road, Oakdale, PA 15071 | Sep. 11, 2017 | 421085
Chester (FEMA Docket No.: B-1733) | Township of West Pikeland (17-03-0003P) | Mr. Jim Wendelgass, Manager, Township of West Pikeland, 1645 Art School Road, Chester Springs, PA 19425 | Township Building, 1645 Art School Road, Chester Springs, PA 19425. | Oct. 4, 2017 | 421151
Chester (FEMA Docket No.: B-1725) | Township of West Whiteland (16-03-1541P) | Ms. Mimi Gleason, Manager, Township of West Whiteland, 101 Commerce Drive, Exton, PA 19341 | Township Hall, 101 Commerce Drive, Exton, PA 19341 | Oct. 2, 2017 | 420295
South Dakota:
Union (FEMA Docket No.: B-1733) | Unincorporated areas of Union County (16-08-0762P) | The Honorable Milton Ustad, Chairman, Union County Board of Commissioners, 209 East Main Street, Elk Point, SD 57025 | Union County Planning and Zoning Department, 209 East Main Street, Elk Point, SD 57025 | Sep. 29, 2017 | 460242
Texas:
Bexar (FEMA Docket No.: B-1733) | City of Converse (17-06-1168P) | The Honorable Al Suarez, Mayor, City of Converse, 403 South Seguin Road, Converse, TX 78109 | City Hall, 403 South Seguin Road, Converse, TX 78109 | Oct. 2, 2017 | 480038
Bexar (FEMA Docket No.: B-1727) | City of Fair Oaks Ranch (16-06-3504P) | The Honorable Garry Manitzas, Mayor, City of Fair Oaks Ranch, 7286 Dietz Elkhorn Road, Fair Oaks Ranch, TX 78015 | Public Works Department, 7286 Dietz Elkhorn Road, Fair Oaks Ranch, TX 78015 | Aug. 28, 2017 | 481644
Bexar (FEMA Docket No.: B-1735) | City of San Antonio (16-06-2628P) | The Honorable Ivy R. Taylor, Mayor, City of San Antonio, P.O. Box 839966, San Antonio, TX 78283 | Transportation and Capital Improvements Department, Storm Water Division, 1901 South Alamo Street, 2nd Floor, San Antonio, TX 78204 | Sep. 21, 2017 | 480045
Bexar (FEMA Docket No.: B-1733) | City of San Antonio (16-06-4428P) | The Honorable Ivy R. Taylor, Mayor, City of San Antonio, P.O. Box 839966, San Antonio, TX 78283 | Transportation and Capital Improvements Department, Storm Water Division, 1901 South Alamo Street, 2nd Floor, San Antonio, TX 78204 | Oct. 2, 2017 | 480045
Bexar (FEMA Docket No.: B-1735) | City of San Antonio (17-06-1346P) | The Honorable Ivy R. Taylor, Mayor, City of San Antonio, P.O. Box 839966, San Antonio, TX 78283 | Transportation and Capital Improvements Department, Storm Water Division, 1901 South Alamo Street, 2nd Floor, San Antonio, TX 78204 | Sep. 29, 2017 | 480045
Collin (FEMA Docket No.: B-1733) | City of McKinney (17-06-0438P) | The Honorable Brian Loughmiller, Mayor, City of McKinney, P.O. Box 517, McKinney, TX 75070 | Engineering Department, 221 North Tennessee Street, McKinney, TX 75069 | Oct. 2, 2017 | 480135
Collin (FEMA Docket No.: B-1733) | Unincorporated areas of Collin County (17-06-0438P) | The Honorable Keith Self, Collin County Judge, 2300 Bloomdale Road, Suite 4192, McKinney, TX 75071 | Collin County Engineering Department, 4690 Community Avenue, Suite 200, McKinney, TX 75071 | Oct. 2, 2017 | 480130
Dallas (FEMA Docket No.: B-1727) | City of Irving (16-06-4337P) | The Honorable Beth Van Duyne, Mayor, City of Irving, 825 West Irving Boulevard, Irving, TX 75060 | Capital Improvement Program Department, Engineering Section, 825 West Irving Boulevard, Irving, TX 75060 | Sep. 11, 2017 | 480180
Dallas (FEMA Docket No.: B-1733) | City of Lancaster (17-06-2357P) | The Honorable Marcus E. Knight, Mayor, City of Lancaster, P.O. Box 940, Lancaster, TX 75146 | City Hall, 700 East Main Street, Lancaster, TX 75146 | Sep. 21, 2017 | 480182
Dallas and Tarrant (FEMA Docket No.: B-1735) | City of Grapevine (17-06-1387P) | The Honorable William D. Tate, Mayor, City of Grapevine, P. O. Box 95104, Grapevine, TX 76099 | City Hall, 200 South Main Street, Grapevine, TX 76051 | Sep. 14, 2017 | 480598
Denton (FEMA Docket No.: B-1735) | City of The Colony (17-06-0854P) | The Honorable Joe McCourry, Mayor, City of The Colony, 6800 Main Street, The Colony, TX 75056 | City Hall, 6800 Main Street, The Colony, TX 75056 | Sep. 11, 2017 | 481581
Ellis (FEMA Docket No.: B-1733) | City of Midlothian (16-06-3253P) | The Honorable Bill Houston, Mayor, City of Midlothian, 104 West Avenue E, Midlothian, TX 76065 | Engineering Department, 104 West Avenue E, Midlothian, TX 76065 | Sep. 28, 2017 | 480801
Kendall (FEMA Docket No.: B-1727) | Unincorporated areas of Kendall County (16-06-3504P) | The Honorable Darrel L. Lux, Kendall County Judge, 201 East San Antonio Avenue, Suite 122, Boerne, TX 78006 | Kendall County Engineering Department, 201 East San Antonio Avenue, Suite 101, Boerne, TX 78006 | Aug. 28, 2017 | 480417
Tarrant (FEMA Docket No.: B-1735) | Town of Flower Mound (17-06-1387P) | The Honorable Thomas Hayden, Mayor, Town of Flower Mound, 2121 Cross Timbers Road, Flower Mound, TX 75028 | Engineering Department, 2121 Cross Timbers Road, Flower Mound, TX 75028 | Sep. 14, 2017 | 480777
Travis (FEMA Docket No.: B-1735) | City of Austin (16-06-3748P) | The Honorable Steve Adler, Mayor, City of Austin, P.O. Box 1088, Austin, TX 78767 | 1 Texas Center, 505 Barton Springs Road, 12th Floor, Austin, TX 78703 | Sep. 11, 2017 | 480624
Travis (FEMA Docket No.: B-1733) | City of Austin (17-06-0072P) | The Honorable Steve Adler, Mayor, City of Austin, P.O. Box 1088, Austin, TX 78767 | Watershed Protection Department, 505 Barton Springs Road, Austin, TX 78704 | Sep. 18, 2017 | 480624
Travis (FEMA Docket No.: B-1733) | Unincorporated areas of Travis County (17-06-0072P) | The Honorable Sarah Eckhardt, Travis County Judge, P.O. Box 1748, Austin, TX 78767 | Transportation and Natural Resources Department, 700 Lavaca Street, Suite 540, Austin, TX 78701 | Sep. 18, 2017 | 481026
Utah:
Kane (FEMA Docket No.: B-1733) | Unincorporated areas of Kane County (17-08-0684P) | The Honorable Dirk Clayson, Chairman, Kane County Commission, 76 North Main Street, Kanab, UT 84741 | Kane County Courthouse, 76 North Main Street, Kanab, UT 84741 | Sep. 22, 2017 | 490083
Salt Lake (FEMA Docket No.: B-1733) | City of Draper (17-08-0291P) | The Honorable Troy K. Walker, Mayor, City of Draper, 1020 East Pioneer Road, Draper, UT 84020 | City Hall, 1020 East Pioneer Road, Draper, UT 84020 | Oct. 2, 2017 | 490244
Virginia:
Loudoun (FEMA Docket No.: B-1733) | Unincorporated areas of Loudoun County (17-03-1055P) | The Honorable Phyllis J. Randall, Chair, Loudoun County Board of Supervisors, P.O. Box 7000, Leesburg, VA 20177 | Loudoun County Department of Building and Development, 1 Harrison Street, Leesburg, VA 20177 | Oct. 6, 2017 | 510099
Prince William (FEMA Docket No.: B-1735) | Unincorporated areas of Prince William County (17-03-0300P) | Mr. Christopher E. Martino, Prince William County Executive, 1 County Complex Court, Woodbridge, VA 22192 | Prince William County Department of Public Works, 5 County Complex Court, Woodbridge, VA 22192 | Sep. 21, 2017 | 510119

[FR Doc. 2017-26367 Filed 12-6-17; 8:45 am]

BILLING CODE 9110-12-P